DEPARTMENT OF TRANSPORTATION

Office of the Secretary

[Docket No. OST-95-246]

North American Free Trade Agreement Conference

AGENCY: Office of the Secretary, DOT.

ACTION: Notice of meeting.

SUMMARY: This notice (1) announces a North American Free Trade Agreement (NAFTA) information conference, to be held at the Hyatt Hotel in San Antonio, Texas, October 21-24, 2001, (2) provides information about the conference for prospective attendees; and (3) identifies a dedicated website that will provide continuously updated information about the conference including registration information. U.S., Canadian, and Mexican government officials representing agencies that have inspection, security and other defined responsibilities affecting the clearance of cross-border transport operations will conduct panel sessions that convey information about the requirements that each of their agencies imposes on motor carrier operations.

Background

The North American Free Trade Agreement (NAFTA) created a timetable for the removal of barriers to the provision of transportation services among the NAFTA countries for carriage of international cargo and of passengers. For trucks and buses, NAFTA was to have liberalized access for motor carriers on a phased schedule over six years from entry into force of the agreement, and it provided for liberalizing investment restrictions on trucking companies established in Mexico and the United States. Liberalization was to have begun in 1995, but the United States postponed implementation due to concerns regarding safety and enforcement. A NAFTA dispute resolution panel subsequently ruled that the U.S. blanket prohibition on processing Mexican applications for operating authority violated the NAFTA. Since 1995, the United States has taken steps to augment its ability to assure compliance with U.S. motor carrier safety regulations. These efforts enable the United States to safely comply with the dispute panel's findings and move forward with implementation of NAFTA's access provisions no later than January 1, 2002.

All foreign motor carriers operating in the United States are subject to the same federal and state regulations and procedures that apply to U.S. carriers. These include safety regulations, insurance requirements, tariff requirements, and payment of all taxes and fees. In addition, foreign motor carriers and drivers must comply with applicable customs and immigration laws and regulations. Under NAFTA, these compliance obligations are completely reciprocal so that U.S. carriers and drivers are similarly obligated to comply with Canadian and Mexican statutory and regulatory requirements while conducting operations in those countries.

While U.S. and Canadian carriers have been conducting operations in each other's respective countries for some time, implementation of NAFTA's access provisions will mean that many Mexican motor carriers will be operating in the United States for the first time. Similarly, operations into Mexico will be a new experience for most U.S. and Canadian motor carriers. The many federal and state regulatory requirements and the multiplicity of federal and state agencies imposing them may be confusing and intimidating to these first-time entrants and could discourage them from attempting to take advantage of NAFTA's transportation provisions. For this reason, the Department of Transportation, in cooperation with Canada, Mexico, other federal agencies, and state and provincial representatives, will host a NAFTA information conference in San Antonio, Texas, October 21-24, 2001 to promote an understanding of the requirements for legal cross-border transport operations among the three NAFTA countries.

Who Should Attend: This conference will be beneficial for commercial truck carriers, bus operators, customs brokers, shippers, and other companies and/or associations that have an interest in the conduct of cross-border business that will involve transport operations.

Meetings and Deadlines: The NAFTA conference will include panels that convey information about: (1) Applying for federal motor carrier operating authority; (2) immigration requirements for drivers operating outside of their own country; (3) Customs requirements for foreign trucks engaged in international operations; (4) agriculture regulations applicable to imported commodities; (5) tax obligations for companies operating commercial vehicles outside their own country; (6) motor carrier safety standards; (7) hazardous materials transportation safety regulations; (8) vehicle weight and dimensions standards; and other requirements. In addition, state and provincial jurisdictions will provide information on their operating requirements. Other panels may be added as preparations for the conference progress. Representatives from the various agencies will be available following panel discussions to address questions from conference attendees. Finally, each attendee will be provided a resource book from each country containing additional information, contact names, e-mail and phone numbers that may be used to obtain additional information.

Languages: All conference sessions will be conducted with simultaneous translation in English and Spanish. To the extent possible, agency representatives who address specific questions from attendees will be bilingual as well.

Updated Information and Hotel Registration: To provide a continuous source of updated conference information, the Department of Transportation's Office of International Transportation & Trade has established a website for prospective attendees and other interested parties. The DOT website will contain an updated schedule of events, guest speakers, and agendas for the panel sessions as they are developed. The website can be accessed by going to the DOT homepage at www.dot.gov/NAFTA.

The DOT website also has a link to the Free Trade Alliance San Antonio's website, where a registration forms for the conference can be downloaded. All participants are requested to fill out a conference registration form, which should be returned to the Free Trade Alliance, 203 South St. Mary's Street, Suite 130, San Antonio, Texas 78205, or faxed to 210-229-9724. Registration forms and information about the conference, hotel accommodations, and the city of San Antonio can also be obtained by writing to the Free Trade Alliance or by telephoning 210-229-9036.

A block of rooms is reserved at the Hyatt Hotel, 123 Lasoya Street, San Antonio, Texas 78205. Interested parties can contact the hotel by telephone at 210-222-1234 or by fax at 210-227-4927. Further information about accommodations can be found on the Free Trade Alliance website at www.freetradealliance.org.

Address and Phone Numbers: For further information please contact Eddie Carazo, U.S. Department of Transportation, OST/X-20, Room 10300, 400 Seventh Street, SW., Washington, DC 20590, telephone (202) 366-2892, or fax (202) 366-7417.

Dated: July 9, 2001.
Bernestine Allen,
Director, Office of International Transportation and Trade.

[FR Doc. 01-17571 Filed 7-12-01; 8:45 am]

BILLING CODE 4910-62-P